DEPARTMENT OF COMMERCE

National Oceanic and Atmospheric Administration

[RTID 0648-XF170]

Pacific Fishery Management Council; Public Meeting

AGENCY: National Marine Fisheries Service (NMFS), National Oceanic and Atmospheric Administration (NOAA), Commerce.

ACTION: Notice of public meeting.

SUMMARY: The Pacific Fishery Management Council's (Pacific Council) Groundfish Management Team (GMT) will hold a 5-day online work session split over the course of 2 weeks that is open to the public. The purpose of the meeting is to prepare materials for the 2027-28 harvest specifications and management measures and discuss other items on the Pacific Council's November 2025 meeting agenda.

DATES: The online meeting will be held Monday, October 20, 2025 from 12 p.m. Pacific Time until business for each day has been completed. The GMT will reconvene on Tuesday, October 21, 2025 at 8:30 a.m. Pacific Time until business for each day has been completed. The GMT will reconvene on Monday, October 28 from 12 p.m. Pacific Time until business for each day has been completed. The GMT will reconvene on Tuesday, October 28, 2025 at 8:30 a.m. Pacific Time through Wednesday, October 29, 2025 until business for each day has been completed.

ADDRESSES: This meeting will be held online. Specific meeting information, including directions on how to join the meeting and system requirements will be provided in the meeting announcement on the Pacific Council's website (see https:www.pcouncil.org). You may send an email to Mr. Kris Kleinschmidt (kris.kleinschmidt@pcouncil.org) or contact him at (503) 820-2412 for technical assistance.

Council address: Pacific Fishery Management Council, 7700 NE Ambassador Place, Suite 101, Portland, OR 97220-1384.

FOR FURTHER INFORMATION CONTACT: Todd Phillips, Staff Officer, Pacific Council; telephone: (503) 820-2426.

SUPPLEMENTARY INFORMATION: The primary purpose of the GMT meeting is to develop recommendations on the development of the 2027-28 harvest specifications and management measures for consideration by the Pacific Council at its November 2025 meeting. If proposed by the Pacific Council, the GMT will also scope new management measures.

The GMT may also address other assignments relating to groundfish management. No management actions will be decided by the GMT. A detailed agenda for this webinar will be available on the Pacific Council's website prior to the meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@pcouncil.org; (503) 820-2412) at least 10 days prior to the meeting date.

Authority: 16 U.S.C. 1801 et seq.

Dated: September 17, 2025.
Rey Israel Marquez,
Acting Deputy Director, Office of Sustainable Fisheries, National Marine Fisheries Service.

[FR Doc. 2025-18208 Filed 9-18-25; 8:45 am]

BILLING CODE 3510-22-P